ENVIRONMENTAL PROTECTION AGENCY

[EPA-HQ-OEJECR-2023-0530; FRL-12002-01-OMS]

Agency Information Collection Activities; Submission to the Office of Management and Budget for Review and Approval; Comment Request; Environmental Justice Thriving Communities Technical Assistance Centers (TCTAC) Program: Post-Award Reporting and Public Outreach Information Collections (New)

AGENCY: Environmental Protection Agency (EPA).

ACTION: Notice.

SUMMARY: The Environmental Protection Agency (EPA) has submitted an information collection request (ICR), Environmental Justice Thriving Communities Technical Assistance Centers (TCTAC) Program: Post-Award Reporting and Public Outreach Information Collections (EPA ICR Number 2794.01, OMB Control Number 2035-NEW) to the Office of Management and Budget (OMB) for review and approval in accordance with the Paperwork Reduction Act. This is a request for approval of a new collection. Public comments were previously requested via the Federal Register on November 15, 2023 during a 60-day comment period. This notice allows for an additional 30 days for public comments.

DATES: Comments may be submitted on or before June 28, 2024.

ADDRESSES: Submit your comments, referencing Docket ID Number EPA-HQ-OEJECR-2023-0530, to EPA online using www.regulations.gov (our preferred method), by email to Docket_OMS@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Aarti Iyer, Office of the Chief Financial Officer, Environmental Protection Agency, 1200 Pennsylvania Ave. NW, Washington, DC 20460; email address: iyer.aarti@epa.gov; phone: 202-564-0214.

SUPPLEMENTARY INFORMATION: This is a request for approval of a new collection. An agency may not conduct or sponsor, and a person is not required to respond to, a collection of information unless it displays a currently valid OMB control number.

Public comments were previously requested via the Federal Register on November 15, 2023 during a 60-day comment period (88 FR 78353). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: To help expand historically underserved and overburdened communities' access to critical resources, the U.S. Environmental Protection Agency (EPA) has collaborated with the U.S. Department of Energy to develop the Environmental Justice Thriving Communities Technical Assistance Centers (TCTAC) Program. The 18 Centers will operate in cooperative agreements with EPA to remove barriers and improve access for communities who wish to apply for financial assistance awards to tackle their environmental justice concerns. The Centers will provide assistance and training to build capacity in: identifying sources of funding; navigating grant application systems; compiling strong grant proposals; managing grants; and developing partnerships and coalitions. With this Information Collection Request (ICR), EPA seeks authorization to collect post-award information from each Center to track their progress. Collection of this information enables EPA to assess and manage the TCTAC Program, which ensures responsible stewardship of public funds; rigorous evidence-based learning and improvement; and transparent accountability to the American public. This ICR also requests authorization for the Centers to collect input and insights from communities who seek to obtain technical assistance services, as well as stakeholders who have valuable experience and expertise in community engagement and empowerment. These information collections will enable the Centers to document local priorities, needs, and norms to ensure that they develop useful and relevant technical assistance and training services. Furthermore, feedback about these services will enable the Centers to conduct self-assessments to identify best practices and areas for improvement. Lastly, this ICR requests authorization for the National Centers in the TCTAC Program to conduct quarterly needs assessments for the Regional Centers, in order to identify the best ways in which the National Centers can support, expand, and bolster the technical assistance that local communities may need.

Form Numbers: None.

Respondents/affected entities: Recipients of financial assistance awards from the Environmental Justice Thriving Communities Technical Assistance Centers (TCTAC) Program, community members, stakeholders.

Respondent's obligation to respond: Required for financial assistance award recipients to obtain or retain a benefit (CAA 103(b), CWA 104(b), FIFRA 20(a), MPRSA 203, SDWA 1442(b), SWDA 8001(a), and TSCA 10(a)). Voluntary for public outreach information collections via surveys and focus groups.

Estimated number of respondents: 20,498.

Frequency of response: Varies.

Total estimated burden: 6,359 hours (per year). Burden is defined at 5 CFR 1320.03(b).

Total estimated cost: $201,712 (per year), there are no annualized capital or operation & maintenance costs.

Changes in the Estimates: This is a new collection, and so does not involve any program changes or burden adjustments.

Courtney Kerwin,
Director, Regulatory Support Division.

[FR Doc. 2024-11769 Filed 5-28-24; 8:45 am]

BILLING CODE 6560-50-P